DEPARTMENT OF AGRICULTURE

Forest Service

Information Collection; Locatable Minerals

AGENCY: Forest Service, USDA.

ACTION: Notice; request for comment.

SUMMARY: In accordance with the Paperwork Reduction Act of 1995, the Forest Service is seeking comments from all interested individuals and organizations on the extension of an information collection associated with Locatable Minerals operations on National Forest System lands.

DATES: Comments must be received in writing on or before January 8, 2002 to be assured of consideration. Comments received after that date will be considered to the extent practicable.

ADDRESSES: Comments concerning this notice should be addressed to Director, Minerals and Geology Management, Forest Service, USDA, 5th Floor, RPC, P.O. Box 96090, Washington, DC 20090-6090.

Comments also may be submitted via facsimile to (703) 605-1575.

The public may inspect comments received at the Office of Director, Minerals and Geology Management, 5th Floor, Rosslyn Plaza “C” Building, 1601 North Kent Street, Arlington, VA 22209. Visitors are encouraged to call ahead to facilitate viewing any comments received.

FOR FURTHER INFORMATION CONTACT: Sam Hotchkiss, Minerals and Geology Management, at (703) 605-4852, or Mary Ann Ball, Forest Service Information Collection Coordinator, at (703) 605-4572, or send an e-mail to maryball@fs.fed.us. Individuals who use telecommunication devices for the deaf (TDD) may call the Federal Information Relay Service (FIRS) at 1-800-877-8339 between 8 a.m. and 8 p.m., Eastern Standard Time, Monday through Friday.

SUPPLEMENTARY INFORMATION: Title: Locatable Minerals.

OMB Number: 0596-0022.

Expiration Date of Approval: January 31, 2002.

Type of Request: Extension with no revision.

Abstract: This collection of information is necessary to ensure that the environmental impacts associated with locatable mineral operations on National Forest System lands are minimized to the extent practicable. The Forest Service regulations at 36 CFR 228.5 require operators, with some exceptions, to submit a Notice of Intent or a Plan of Operations for conducting locatable minerals operations on National Forest System lands. The information that an operator must provide in a Plan of Operations is set out in 228.4(c), (d), and (e). Paragraph (g) of 228.4 displays the OMB number assigned to this information collection. Additionally, the rules, at 228.10 require operators to provide certain information to the Forest Service regarding cessation of operations. The content of a Notice of Intent is described in 228.4(a)(2).

Mineral operators notify the authorized Forest Service officer of their intention to conduct a locatable mineral operation on National Forest System lands by filing either a Notice of Intent or a Plan of Operations. No specific format is required for the information collection, but form FS-2800-5 is available for use by the operators. A Notice of Intent includes: (1) Information sufficient to identify the area involved; (2) the nature of the proposed operation; (3) the route of access to the area of operations; and (4) the method of transport. A Plan of Operations includes: (1) The name and legal mailing address of operators (and claimants if they are not the operators) and their lessees, assigns, or designees; (2) a map or sketch showing information sufficient to locate the proposed area of operations on the ground, existing and/or proposed roads or access routes to be used in connection with the operations as set forth in 228.12 on access and the approximate location and size of areas where surface resources will be disturbed; and (3) information sufficient to describe the type of operations proposed and how they would be conducted, the type and standard of existing and proposed roads or access routes, the means of transportation used or to be used as set forth in 228.12, the period during which the proposed activity will take place, and measures to be taken to meet the requirements for environmental protection in 228.8. A Cessation of Operations statement includes verification of intent to maintain structures, equipment, and other facilities; expected reopening date; and an estimate of extended durations of operations.

The collected information will help ensure that the exploration, development, and production of mineral resources are conducted in an environmentally sensitive manner; that these mineral operations are integrated with the planning and management of other resources using the principles of ecosystem management; and that lands disturbed by minerals operations are reclaimed using the best scientific knowledge and principles and returned to other productive uses.

These collections of information are crucial for protecting surface resources, plants, animals and their habitat, as well as the public safety on National Forest System lands.

| Plan of operations | Notice of intent
Estimate of Annual Burden | 8 hours | 2 hours.
Type of Respondents | Mineral Operators | Mineral Operators.
Estimated Annual Number of Respondents | 793 | 3,415.
Estimated Annual Number of Responses per Respondent: | 1 | 1.
Estimated Total Annual Burden on Respondents | 6,344 | 6,830.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission for Office of Management and Budget approval.

Dated: October 24, 2001.
Paul Brouha,
Associate Deputy Chief, NFS.

[FR Doc. 01-28233 Filed 11-8-01; 8:45 am]

BILLING CODE 3410-11-P